DEPARTMENT OF THE INTERIOR

National Park Service

Notice of Availability for a Draft General Management Plan Amendment/Environmental Impact Statement, Dry Tortugas National Park, Monroe County, FL

SUMMARY: Pursuant to Section 102(2)(c) of the National Environmental Policy Act of 1969 (Public Law 91-190, as amended), the National Park Service (NPS) has prepared a Draft General Management Plan Amendment/Environmental Impact Statement (DGMPA/EIS) that evaluates five alternatives for Dry Tortugas National Park. The document describes and analyzes the environmental impacts of a proposed action, three action alternatives and a no-action alternative. When approved, the plan will guide management actions during the next 15-20 years. This document was completed in cooperation with the Florida Keys National Marine Sanctuary, National Oceanic and Atmospheric Administration. However, the National Park Service planning document and process are separate from the Marine Sanctuary's process and document.

DATES: There will be a 60-day public review period for comment on the draft document which will begin when the Environmental Protection Agency (EPA) publishes their notice in the Federal Register.

ADDRESSES: Public reading copies of the DGMPA/EIS will be available for review at the following locations:

• Everglades National Park, 40001 State Road 9336, Homestead;

• Offices of Florida National Marine Sanctuary at 216 Ann Street, Key West; 5550 Overseas Highway, Marathon; and 95200 Overseas Highway, Key Largo;

• Miami-Dade Public Library, Homestead Branch, 700 N. Homestead boulevard, Homestead;

• Collier County Public Library, 650 Central Avenue, Naples; and

• St. Petersburg Public Library, 3745 9th Avenue North, St. Petersburg.

SUPPLEMENTARY INFORMATION: Notice of the availability of the final document will be published in the Federal Register. Subsequently, notice of an approved Record of Decision will be published in the Federal Register not sooner than 30 days after the final document is distributed. The official responsible for the decision is the Regional Director, Southeast Region, National Park Service; the official responsible for implementation is the Superintendent, Dry Tortugas National Park.

In order to facilitate the review process, public meetings will be held from 3 p.m. to 8 p.m. in the following Florida locations:

• Homestead Senior High School, S.E. 12th Avenue, Homestead—June 12;

• Comfort Inn Executive Suites, 3860 Toll Gate Boulevard, Naples—June 13;

• University of South Florida at St. Petersburg, Campus Activities Center, 2nd Street and 6th Avenue South, St. Petersburg—June 14;

• The Sombrero Country Club, 4000 Sombrero Boulevard, Marathon—June 21;

• Holiday Inn Beach Side, 3841 North Roosevelt Boulevard, Key West—June 22.

A public meeting also will be held in Washington, DC from 2 p.m. to 5 p.m. in the first floor HCHB Auditorium of the U.S. Commerce Building on July 11, 2000.

For the convenience of the public, these meetings will be held jointly with the Florida Keys National Marine Sanctuary, National Oceanic and Atmospheric Administration. Detailed information for each public meeting will be published in local and regional newspapers in advance, broadcast via radio and television stations, and listed on the park's Webpage. Dry Tortugas National Park management and planning officials will attend all sessions to present the draft document, to receive oral and written comments, and to answer questions.

Comments on the DGMPA/EIS should be received (or transmitted by e-mail) no later than 60 days after publication of EPA's Federal Register notice. Written comments may be submitted to Superintendent Richard G. Ring, Everglades National Park and Dry Tortugas National Park, 40001 State Road, 9336, Homestead, Florida 33034 or e-mailed to jeffery_scott@nps.gov.

All comments received will be available for public review at Everglades National Park. If individuals submitting comments request that their name and/or address be withheld from public disclosure, it will be honored to the extent allowable by law. Such requests must be stated prominently in the beginning of the comments. There also may be circumstances wherein the NPS will withhold a respondent's identity as allowable by law. As always, NPS will make available for public inspection all submissions from organizations or businesses and from persons identifying themselves as representatives or officials of organizations and businesses. Anonymous comments may not be considered.

In addition, the document will be posted on the Dry Tortugas National Park Webpage (www.nps.gov/drto/). A limited number of printed copies will be available on request.

FOR FURTHER INFORMATION CONTACT: Jeffery Scott, Supervisory Community Planner, Everglades National Park, 40001 State Road 9336, Homestead, Florida 33034, (Phone: 305-242-7706; FAX: 305-242-7711; email: jeffery_scott@nps.gov).

Dated: June 14, 2000.
Daniel W. Brown,
Acting Regional Director, Southeast Region.

[FR Doc. 00-15729 Filed 6-21-00; 8:45 am]

BILLING CODE 4310-70-M